SURFACE TRANSPORTATION BOARD

[Docket No. FD 36186]

Texas Railway Exchange LLC—Construction and Operation Exemption—in Galveston County, Texas

AGENCY: Surface Transportation Board.

ACTION: Issuance of Draft Environmental Assessment; Request for comments.

SUMMARY: The Surface Transportation Board's (Board's) Office of Environmental Analysis (OEA) has prepared a Draft Environmental Assessment (Draft EA) in response to a petition for exemption filed on November 21, 2018 by Texas Railway Exchange LLC (TREX) to construct and operate an approximately 2,800-foot line of railroad in the City of Galveston, Galveston County, Texas. The proposed rail line would connect the Texas International Terminals facility (the Terminal) on Galveston Bay with an existing line of railroad operated by BNSF Railway Company by crossing an existing Union Pacific Railroad rail line. The proposed rail line would offer a new alternative rail transportation option for rail traffic entering and leaving the Terminal.

The Draft EA evaluates the potential environmental impacts of two alternative rail alignments, as well as the No-Action Alternative and preliminarily concludes that construction of the proposed rail line connection would have no significant environmental impacts if the Board imposes and TREX implements the recommended mitigation measures set forth in the Draft EA. The entire Draft EA is available on the Board's website (www.stb.dot.gov) by clicking on the “Decisions & Notices” button that appears in the drop down menu for “ELIBRARY,” and searching by Service Date (February 22, 2019) or Docket Number (FD 36186).

DATES: The EA is available for public review and comment. Comments must be postmarked by March 14, 2019. OEA will consider and respond to comments received on the Draft EA in the Final EA. The Board will issue a final decision on the proposed transaction after issuance of the Final EA.

Filing Environmental Comments: Comments submitted by mail should be addressed to: Josh Wayland, Surface Transportation Board, 395 E Street SW, Washington, DC 20423. Comments on the Draft EA may also be filed electronically on the Board's website, www.stb.dot.gov, by clicking on the “E FILING” link. Please refer Docket No. FD 36186 in all comments, including electronic filings.

FOR FURTHER INFORMATION CONTACT: Josh Wayland by mail at the address above, by telephone at 202-245-0330, or by email at joshua.wayland@stb.gov.

By the Board, Victoria Rutson, Director, Office of Environmental Analysis.

Regena Smith-Bernard,
Clearance Clerk.

[FR Doc. 2019-03363 Filed 2-26-19; 8:45 am]

BILLING CODE 4915-01-P